DEPARTMENT OF AGRICULTURE

Forest Service

Revised Notice of Intent To Prepare a Supplement to the Final Environmental Impact Statement for Gypsy Moth Management in the United States: A Cooperative Approach

AGENCIES: Forest Service and Animal and Plant Health Inspection Service, USDA.

ACTION: Notice of Revision; request for comment.

SUMMARY: On April 29, 2004 (69 FR 23492), the Forest Service published in the Federal Register a Notice of Intent (NOI) to prepare a Supplement to the Final Environmental Impact Statement for Gypsy Moth Management in the United States: a Cooperative Approach. The Forest Service and the Animal and Plant Health Inspection Service are revising the expected dates for filing the Draft and Final Supplemental Environmental Impact Statement.

DATES: Comments concerning this revision should be received by May 26, 2006.

Individuals, groups, or other agencies who responded to previous scoping efforts for this Supplemental Environmental Impact Statement are not required to respond to this revised NOI. Those comments have already been incorporated into the analysis for the revised NOI. The draft Supplemental Environmental Impact Statement is expected to be filed in September of 2006; the final Supplemental Environmental Impact Statement is expected to be filed in August of 2007. Another formal opportunity to comment will be provided following completion of the Draft Supplemental Environmental Impact Statement.

ADDRESSES: Send written comments concerning this revision to Joseph L. Cook, Gypsy Moth Supplemental EIS Project Leader, Forest Service, Northeastern Area, State and Private Forestry, 180 Canfield Street, Morgantown, WV 26505. Fax number: (304) 285-1508.

FOR FURTHER INFORMATION CONTACT: Joseph L. Cook, Gypsy Moth Supplemental EIS Project Leader, at (304) 285-1523, or e-mail jlcook@fs.fed.us. Individuals who use telecommunication devices for the deaf (TDD) may call the Federal Relay Service (FRS) at 1-800-877-8339 twenty-four hours a day, every day of the year, including holidays.

SUPPLEMENTARY INFORMATION: Further information about the proposal can be found in the original NOI published in the Federal Register, Vol. 69, No. 83, pp. 23492-23493, on April 29, 2004.

Nature of Decision To Be Made

The responsible officials will decide whether or not to add the insecticide, tebufenozide (trade name Mimic), to their list of treatments for control of gypsy moth and whether or not to provide for the addition of other insecticides to their list of treatments for control of gypsy moth, if the other insecticides are within the range of effects and acceptable risks for the existing list of treatments.

Responsible Officials

The responsible official for the Forest Service is the Deputy Chief for State and Private Forestry. The responsible official for the Animal and Plant Health Inspection Service is the Deputy Administrator for Plant Protection and Quarantine.

Use of Comments

All comments received in response to this revised NOI, including the names and addresses when provided, will become a matter of public record and will be available for public inspection and copying. Comments will be summarized and included in the final Supplemental Environmental Impact Statement.

Dated: March 3, 2006.
Robin L. Thompson,
Associate Deputy Chief, S&PF.

[FR Doc. E6-3506 Filed 3-10-06; 8:45 am]

BILLING CODE 3410-11-P